DEPARTMENT OF HEALTH AND HUMAN SERVICES

Health Care Financing Administration

Announcement of Office of Management and Budget (OMB) Control Numbers for Agency Information Collections Approved Under the Paperwork Reduction Act of 1995

AGENCY: Health Care Financing Administration, HHS.

This notice announces and displays OMB control numbers for Health Care Financing Administration (HCFA) information collections that have been approved by OMB.

Under OMB's regulations implementing the Paperwork Reduction Act (PRA), 44 U.S.C. 3501, each agency that proposes to collect information must submit its proposal for OMB review and approval in accordance with 5 CFR part 1320. Once OMB has approved an agency's proposed collection of information and issues a control number, the agency must display the control number.

OMB regulations provide for alternative methods of displaying OMB control numbers. In the case of collections of information published in regulations, display is to be “provided in a manner that is reasonably calculated to inform the public.” To meet this requirement an agency may display such information in the Federal Register by publishing such information in the preamble or the regulatory text, or in a technical amendment to the regulation, or in a separate notice announcing OMB approval of the collection of information.

To comply with this requirement HCFA has chosen to publish this notice announcing OMB approval of the collections of information published in regulations. As stated above, this notice announces and displays the assigned OMB control numbers for HCFA's information collections that have been approved by OMB.

42 CFR | OMB Control Nos.
403.210 | 0938-0640
405.262 | 0938-0267
405.371 | 0938-0600
405.376 | 0938-0270
405.378 | 0938-0600
405.427 | 0938-0155
405.465, 405.481 | 0938-0301
405.711 | 0938-0045
405.807 | 0938-0033
405.821 | 0938-0034
405.2100-.2171 | 0938-0386
405.2110, 405.2112 | 0938-0657 & 0658
405.2133 | 0938-0046 & 0448
405.2135-.2171 | 0938-0360
406.7 | 0938-0251
406.13 | 0938-0080
406.15 | 0938-0501
406.28 | 0938-0025
407.10, 407.11 | 0938-0245
407.18 | 0938-0679
407.27 | 0938-0025
407.40 | 0938-0035
408.6 | 0938-0041
409.40-.50 | 0938-0357
410.1 | 0938-0679
410.2 | 0938-0770
410.32 | 0938-0685
410.33 | 0938-0721
410.36 | 0938-0357
410.38 | 0938-0534
410.40 | 0938-0042
410.71 | 0938-0685
410.170 | 0938-0357
411.4-.15 | 0938-0357
411.15 | 0938-0224
411.20-411.206 | 0938-0565
411.370-411.389 | 0938-0714
411.404-.406 | 0938-0465 & 0781
411.408 | 0938-0566
412.20-.32 | 0938-0358
412.40-.52 | 0938-0359
412.44, 412.46 | 0938-0445
412.92 | 0938-0477
412.105 | 0938-0456
412.106 | 0938-0691
412.116 | 0938-0269
412.256 | 0938-0573
413.17 | 0938-0202 & 0685
413.20 | 0938-0202, 0236 & 0600
413.20, 413.24 | 0938-0022, 0037, 0050, 0102, 0107, 0301, 0463, 0511 & 0758
413.64 | 0938-0269
413.106 | 0938-0022
413.170 | 0938-0296
413.198 | 0938-0236
413.343 | 0938-0739
414.40 | 0938-0008
414.330 | 0938-0372
416.43 | 0938-0506
416.44 | 0938-0242
416.47 | 0938-0266 & 0506
417.124 | 0938-0472
417.126 | 0938-0469, 0701 & 0732
417.143 | 0938-0470
417.162 | 0938-0469
417.408 | 0938-0470
417.436 | 0938-0610
417.470 | 0938-0701 & 0732
417.478 | 0938-0469
417.479, 417.500 | 0938-0700
417.801 | 0938-0610
417.800-.840 | 0938-0768
418.1-418.405 | 0938-0313
418.22, 418.24, 418.28, 418.56, 418.58, 418.70, 418.83, 418.96, 418.100 | 0938-0302
418.100 | 0938-0242
420.200-.206 | 0938-0086
421.100 | 0938-0357
421.310, 421.312 | 0938-0723
422.1-.10, 422.50-.80, 422.100-.132, 422.300-.312, 422.400-.404, 422.560-.622 | 0938-0763
422.1-422.700 | 0938-0753
422.64, 422.111, 422.560-422.622 | 0938-0778
422.300-422.312 | 0938-0742
422.370-422.378 | 0938-0722
424.5 | 0938-0534 & 0279
424.20 | 0938-0454
424.22 | 0938-0357 & 0489
424.32 | 0938-0008 & 0739
424.44 | 0938-0008
424.57 | 0938-0717, 0749 & 0685
424.73, 424.80 | 0938-0685
424.103 | 0938-0023
424.123 | 0938-0484
424.124 | 0938-0042
426.102-426.104 | 0938-0526
430.10 | 0938-0673
430.10-20 | 0938-0193
430.12 | 0938-0610
430.20 | 0938-0610
430.30 | 0938-0101
431.1-431.865 | 0938-0062
431.17 | 0938-0467
431.107 | 0938-0610
431.306 | 0938-0467
431.630 | 0938-0445
431.800 | 0938-0094 & 0300
431.800-431.820 | 0938-0144
431.800-431.865 | 0938-0146, 0147 & 0246
431.865 | 0938-0094
433.68, 433.74 | 0938-0618
433.110-.131 | 0938-0487
433.110, 433.112-433.114, 433.116, 433.117, 433.119, 433.121, 433.122, 433.127, 433.130, 433.131 | 0938-0247
433.138 | 0938-0502
434.28 | 0938-0610
434.44, 434.67, 434.70 | 0938-0700
435.1-435.1011 | 0938-0062
435.910, 435.920, 435.940-.960 | 0938-0467
440.1-.270 | 0938-0062
440.30 | 0938-0685
440.167 | 0938-0193
440.180 | 0938-0272 & 0449
441.16 | 0938-0713
441.60 | 0938-0354
441.152 | 0938-0754
441.250-441.300 | 0938-0481
441.300-441.305 | 0938-0272
441.300-441.310 | 0938-0449
442.1-.119 | 0938-0062 & 0379
447.31 | 0938-0287
447.53 | 0938-0429
447.272 | 0938-0618
447.280 | 0938-0624
447.500-.542 | 0938-0676
447.550 | 0938-0676
455.100-.106 | 0938-0086
456.654 | 0938-0445
456.700, 456.705, 456.709, 456.711, 456.712 | 0938-0659
466.71, 466.73, 466.74, 466.78 | 0938-0445
466.78 | 0938-0692
473.18, 473.34, 473.36, 473.42 | 0938-0443
476.104, 476.105, 476.116, 476.134 | 0938-0426
482.1-.66 | 0938-0380
482.2-.57 | 0938-0382
482.12, 482.22 | 0938-0328
482.27 | 0938-0328 & 0698
482.41 | 0938-0242
482.30, 482.41, 482.43, 482.53, 482.56, 482.57 | 0938-0328
482.60-.62 | 0938-0378 & 0328
482.66 | 0938-0328 & 0624
483.10 | 0938-0610
483.270 | 0938-0242
483.400-.480 | 0938-0062
483.470 | 0938-0242
484.1-.52 | 0938-0365
484.10 | 0938-0610 & 0781
484.10-.52 | 0938-0355
484.11 | 0938-0761
484.12 | 0938-0685
484.18 | 0938-0357
484.20 | 0938-0761
484.48 | 0938-0519
484.55 | 0938-0760
485.56, 485.58, 485.60, 485.64, 485.66 | 0938-0267
485.701-.729 | 0938-0065 & 0273
485.709, 4857.11, 485.717, 485.719, 485.721, 487.723, 485.725, 485.727, 485.729 | 0938-0336
486.100-.110 | 0938-0027
486.104, 486.106, 486.110 | 0938-0338
486.155, 486.161, 486.163 | 0938-0336
486.301-.325 | 0938-0512 & 0688
488.4-488.9 | 0938-0690
488.18 | 0938-0391 & 0667
488.26 | 0938-0379 & 0391
488.28 | 0938-0391
488.60 | 0938-0360
488.201 | 0938-0690
489.20 | 0938-0214, 0667 & 0692
489.21 | 0938-0357
489.24 | 0938-0667
489.27 | 0938-0692
489.40-.41 | 0938-0383
489.66, 489.67 | 0938-0713
489.102 | 0938-0610
491.1-.11 | 0938-0074
491.9 | 0938-0334
493.1-.2001 | 0938-0151, 0544, 0581, 0599, 0612, 0650 & 0653
493.551-.557 | 0938-0686
493.1269-.1285 | 0938-0170
493.1840 | 0938-0655
498.40-.95 | 0938-0486 & 0567
1003.100, 1003.101, 1003.103 | 0938-0700
1004.40, 1004.50, 1004.60, 1004.70 | 0938-0444

45 CFR | OMB control Nos.
5b.1-.13 | 0938-0734
96.70-.74 | 0938-0481
146 | 0938-0702
146.136 | 0938-0719
148 | 0938-0703

Dated: February 10, 2000.
John P. Burke III,
HCFA Reports Clearance Officer, HCFA Office of Information Services, Security and Standards Group, Division of HCFA Enterprise Standards.

[FR Doc. 00-3950 Filed 2-17-00; 8:45 am]

BILLING CODE 4120-03-P